DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps.

Dates and Times: September 14, 2006, 12 p.m.-5 p.m.; September 15, 2006, 9 a.m.-5 p.m.; September 16, 2006, 9 a.m.-5 p.m.; and September 17, 2006, 9 a.m.-12 p.m.

Place: Hyatt Regency Reston, 1800 Presidents Street, Reston, VA 20190.

Status: The meeting will be open to the public.

Agenda: This Council meeting is being held in conjunction with the annual NHSC Loan Repayors Conference. The Council will have the chance to meet with clinicians in the field as well as work on their report outlining some recommendations for the National Health Service Corps Program. Discussions will be focused on the impact of these recommendations on the program participants, communities served by these clinicians and in the administration of the program.

For Further Information Contact:

Tira Robinson-Patterson, Division of National Health Service Corps, Bureau of Health Professions, Health Resources and Services Administration, Parklawn Building, Room 8A-55, 5600 Fishers Lane, Rockville, MD 20857; telephone: (301) 594-4140.

Dated: August 29, 2006.
Cheryl Dammons,
Director, Division of Policy Review and Coordination.

[FR Doc. E6-14752 Filed 9-5-06; 8:45 am]

BILLING CODE 4165-15-P